DEPARTMENT OF JUSTICE

Antitrust Division

Notice Pursuant to the National Cooperative Research and Production Act of 1993—Open Devicenet Vendor Association, Inc.

Notice is hereby given that, on May 10, 2007, pursuant to Section 6(a) of the National Cooperative Research and Production Act of 1993, 15 U.S.C. 4301 et seq. (“the Act”), Open Device Net Vendor Association, Inc. (“ODVA”) has filed written notifications simultaneously with the Attorney General and the Federal Trade Commission disclosing changes in its membership. The notifications were filed for the purpose of extending the Act's provisions limiting the recovery of antitrust plaintiffs to actual damages under specified circumstances. Specifically, Robostar Co., Ltd., Gyeonggi-do, MO; Experitec, Inc., Chesterfield, MO; WIT, St-Lauren-Du-Var, France; Metronix Corp., Daegu, Republic of Korea; Trio Motion Technology Ltd., Tewkesburg, England, United Kingdom; and JSF Co., Ltd. (formerly Japan Control Engineering Co., Ltd.), Aichi-ken, Japan have been added as parties to this venture.

Also, M&M Software NI Ltd., Belfast, Northern Ireland, United Kingdom; Advanced Engineering, Inc., Franklin, TN; and Avery-Weigh-Tronix; Fairmont, MN have withdrawn as parties to this venture. In addition, IVO GmbH & Co. has changed its name to Baumer IVO GmbH & Co. KG, Villingen Schwenningen, Germany.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act of February 15, 1996 (61 FR 6039).

The last notification was filed with the Department on January 29, 2007. A notice was published in the Federal Register pursuant to Section 6(b) of the Act on March 15, 2007 (72 FR 12199).

Patricia A. Brink,
Deputy Director of Operations, Antitrust Division.

[FR Doc. 07-3413 Filed 7-12-07; 8:45 am]

BILLING CODE 4410-11-M